DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for the Santa Clara Valley Transportation Authority's (VTA's) Bay Area Rapid Transit (BART) Silicon Valley Phase II Extension project in Santa Clara County, California. The project will extend the BART system from the Berryessa/North San José Station through downtown San José to the Santa Clara Caltrain Station. The project will include design, construction, and future operation of a six-mile transit extension consisting of a five-mile-long single-bore tunnel; three transit stations in the City of San José, one transit station and a maintenance facility in the City of Santa Clara, and two ventilation structures along the alignment. The purpose of this notice is to announce publicly the environmental decisions by FTA on the subject project and to activate the limitation on any claims that may challenge this final environmental action.

DATES: By this notice, FTA is advising the public of final agency actions subject to 23 U.S.C. 139(l) . A claim seeking judicial review of FTA actions announced herein for the listed public transportation project will be barred unless the claim is filed on or before December 17, 2018.

FOR FURTHER INFORMATION CONTACT: Nancy-Ellen Zusman, Assistant Chief Counsel, Office of Chief Counsel, (312) 353-2577, or Alan Tabachnick, Environmental Protection Specialist, Office of Environmental Programs, (202) 366-8541. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The actions on the project, as well as the laws under which such actions were taken, are described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such actions were taken, including NEPA [42 U.S.C. 4321-4375], Section 4(f) requirements [23 U.S.C. 138, 49 U.S.C. 303], Section 106 of the National Historic Preservation Act [16 U.S.C. 470f], and the Clean Air Act [42 U.S.C. 7401-7671q]. This notice does not, however, alter or extend the limitation period for challenges of project decisions subject to previous notices published in the Federal Register. The project and action that is the subject of this notice follow:

Project name and location: Santa Clara Valley Transportation Authority's Bay Area Rapid Transit (BART) Silicon Valley Phase II Extension from the Berryessa/North San José Station to the Santa Clara Caltrain Station, in Santa Clara County, California.

Project Sponsor: The Santa Clara Valley Transportation Authority (VTA).

Project description: VTA's BART Silicon Valley Program consists of a 16-mile extension of the BART system from BART's existing Warm Springs/South Fremont Station in southern Fremont in Alameda County into Santa Clara County through the Cities of Milpitas, San José, and Santa Clara. VTA's BART Silicon Valley Program is being implemented in two phases, the Phase I Project (Berryessa Extension) and the Phase II Project (Silicon Valley Extension). The Phase I Project is a 10-mile extension from the existing Warm Springs/South Fremont Station to the Berryessa/North San José Station in the City of San José. In 2010, FTA issued a Record of Decision (ROD) for the Phase I Project, which is currently under construction and scheduled to be open in late 2018. The Phase II Project consists of the remaining approximately six-mile extension of VTA's BART Silicon Valley Program, and is the subject of this limitation on claims notice. The Phase II Project was the subject of VTA's BART Silicon Valley Phase II Extension Project Final Supplemental Environmental Impact Statement/Subsequent Environmental Impact Report and Section 4(f) Evaluation (SEIS/SEIR), dated February 2018, which included both NEPA and California Environmental Quality Act (CEQA) analyses. The project will consist of the design, construction and operation of approximately six miles of new double-track light rail transit to extend the BART system from the Berryessa/North San José Station through downtown San José to the Santa Clara Caltrain Station. The Notice of Availability for the Final Environmental Impact Statement for Phase I and II Projects was published in 2010.

Final agency actions: Section 4(f) determination, dated February 2018; Section 106 Programmatic Agreement dated May 9, 2018; project-level air quality conformity; and Record of Decision, dated June 4, 2018.

Supporting documentation: VTA's BART Silicon Valley Phase II Extension Project Draft Supplemental Environmental Impact Statement/Subsequent Environmental Impact Report and Draft Section 4(f) Evaluation dated December 2016.

Elizabeth S. Riklin,
Deputy Associate Administrator for Planning and Environment.

[FR Doc. 2018-15531 Filed 7-19-18; 8:45 am]

BILLING CODE P